DEPARTMENT OF HEALTH AND HUMAN SERVICES

National Institutes of Health

Proposed Collection; Comment Request; Next Series of Tobacco Use Supplements to the Current Population Survey (TUS-CPS) (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Next Series of Tobacco Use Supplements to the Current Population Survey (TUS-CPS). Type of information request: REINSTATEMENT WITH CHANGE of OMB #0925-0368, Expiration 4/30/2009. Need and Use of Information Collection: The 2010-2011 Tobacco Use Supplement to the Current Population Survey conducted by the Census Bureau will collect data from the U.S. civilian non-institutionalized population on smoking, other tobacco use, and attempts at cessation; policy information such as home and workplace smoking policies; health professional advice to stop smoking; and changes in smoking norms and attitudes. The TUS-CPS will be and has been in the past a key source of national, State, and some local-level data on these topics in U.S. households because it uses a large, nationally representative sample. This survey is part of a continuing series of surveys (OMB# 0925-0368) that were sponsored by National Cancer Institute (NCI) and has been administered triennially as part of the U.S. Census Bureau's and the Bureau of Labor Statistics CPS. The TUS-CPS has been fielded since 1992, most recently in 2006-07, and its data are available for public use. Government agencies, other researchers and the public can use the data to monitor progress in the control of tobacco use, conduct tobacco-related research, evaluate tobacco control programs, examine tobacco-use-related health disparities, and use this data to help determine policies and services that need to be provided. A unique feature is the ability to link other social and economic Census Bureau and Bureau of Labor Statistics data and other sponsor-supported supplement data to the TUS-CPS data. Much of this data can also be linked to cancer and other cause-specific mortality data through the National Longitudinal Mortality Study (co-sponsored by three NIH agencies, the National Center for Health Statistics/Centers for Disease Control and Prevention (CDC), and the Census Bureau). This survey has in the past, and the 2010-2011 survey, will provide in the future invaluable information to measure progress toward tobacco control as part of the (NCI's) Cancer Progress Report, and the Department of Health and Human Services' Healthy People 2010 and 2020 Goals. This data will also provide a basis for the National Human Genome Research Institute's PhenX Alcohol, Tobacco, and Other Substances Toolkit, provide long-term trend data for CDC and other State and local public health staff, and support the research of extramural scientists. The 2010-2011 TUS-CPS is also relevant to several NCI tobacco control initiatives. The main 2010-2011 survey will allow State and sub-State-specific estimates to be made as do all the previous surveys. The May 2011 Follow-Up questionnaire will consist of an abbreviated version of the main 2010-2011 questionnaire. Data will be collected in May 2010, August 2010, January 2011, and May 2011 from approximately 315,000 respondents (270,000 unique respondents, 45,000 of these in the May 2011 Follow-Up). The 2010-2011 TUS-CPS, complemented by the Follow-Up questionnaire, will be useful for researchers interested in measuring the impact on tobacco cessation of new FDA regulation (the Family Smoking Prevention and Tobacco Control Act) as it is implemented, and will complement Federal tobacco research and policy efforts. Frequency of Response: One-time study for the main 2010-2011 survey; One-time study for the May 2011 Follow-Up. Affected Public: Individuals or households. Type of Respondents: Persons 18 years of age or older. The annualized cost to respondents is estimated at $285,000. There are no Capital Costs, Operating Costs, and/or Maintenance Costs to report. The annual reporting burden is presented in the table below.

Table—Estimates of Annual Burden Hours
Type of respondent per survey period | Number of respondents (annualized) | Responses per respondent | Average time per response (minutes/hour) | Annual burden hours
May 2010: Individuals | 30,000 | 1 | 9/60 (0.15) | 4,500
August 2010: Individuals | 30,000 | 1 | 9/60 (0.15) | 4,500
January 2011: Individuals | 30,000 | 1 | 9/60 (0.15) | 4,500
May 2011 Follow-Up: Individuals | 15,000 | 1 | 6/60 (0.10) | 1,500
Totals | 105,000 |  |  | 15,000

Request for Comments: Written comments and/or suggestions from the public and affected agencies should address one or more of the following points: (1) Evaluate whether the proposed collection of information is necessary for the proper performance of the function of the agency, including whether the information will have practical utility; (2) evaluate the accuracy of the agency's estimate of the burden of the proposed collection of information, including the validity of the methodology and assumptions used; (3) enhance the quality, utility and clarity of the information to be collected; and (4) minimize the burden of the collection of information on those who are to respond, including the use of appropriate automated, electronic, mechanical, or other technological collection techniques or other forms of information technology.

FOR FURTHER INFORMATION CONTACT: To request more information on the proposed project or to obtain a copy of the data collection plans and instruments, contact Anne Hartman, M.S., M.A., Health Statistician, National Cancer Institute, 6130 Executive Blvd—MSC 7344, Executive Plaza North, Suite 4005, Bethesda, Maryland 20892-7344, or call non-toll free 301-496-4970, or FAX your request, to 301-435-3710, or e-mail your request, including your address, to ah42t@nih.gov or hartmana@mail.nih.gov.

Comments Due Date: Comments regarding this information collection are best assured of having their full effect if received within 60 days of the date of this publication.

Dated: November 2, 2009.
Vivian Horovitch-Kelley,
NCI Project Clearance Liaison, National Institutes of Health.

[FR Doc. E9-26848 Filed 11-5-09; 8:45 am]

BILLING CODE 4140-01-P